DEPARTMENT OF THE INTERIOR

Fish and Wildlife Service

[FWS-R8-ES-2019-N002; FXES11140800000-190-FF08E00000]

Draft City of Rancho Palos Verdes Natural Community Conservation Plan and Habitat Conservation Plan and Draft Environmental Assessment, City of Rancho Palos Verdes, Los Angeles County, California

AGENCY: Fish and Wildlife Service, Interior.

ACTION: Notice of availability; request for public comment.

SUMMARY: We, the U.S. Fish and Wildlife Service (Service), announce the recirculation of the draft Natural Community Conservation Plan/Habitat Conservation Plan (NCCP/HCP) and draft environmental assessment (draft EA), which evaluates the impacts of, and alternatives to, the proposed City of Rancho Palos Verdes (City of RPV) NCCP/HCP. The recirculation is necessary to maximize public review because, while the document provided during the initial 60-day comment period was the document considered by the City of RPV Council at their March 29, 2018, Council Meeting, it did not include changes accepted by City of RPV Council via late correspondence at the Council Meeting, nor did it include technical and clarifying edits made after the Council Meeting. We request review and comment on the City of RPV NCCP/HCP and the draft EA from local, State, and Federal agencies; Tribes; and the public.

DATES: To ensure consideration, please send your written comments by May 6, 2019.

ADDRESSES:

Obtaining Documents: You may obtain copies of the City of RPV NCCP/HCP and the draft EA by the following methods. Please specify that your request pertains to the City of RPV NCCP/HCP.

• Email: katiel@rpvca.gov.

• Internet: http://www.rpvca.gov/490/Palos-Verdes-Nature-Preserve-NCCP-PUMP-H.

• U.S. Mail: A limited number of CD-ROM and printed copies are available, by request, from the following locations:

○ Carlsbad Fish and Wildlife Office, 2177 Salk Avenue, Suite 250, Carlsbad, CA 92008;

○ Rancho Palos Verdes City Hall (see address under In-Person, below).

• In-Person: Copies are available for public inspection and review at the following locations, by appointment and written request only:

○ Rancho Palos Verdes City Hall, 30940 Hawthorne Blvd., Rancho Palos Verdes, CA 90275 (telephone: 310-554-5267; 7:30 a.m. to 5:30 p.m., Monday through Thursday, and 7:30 a.m. to 4:30 p.m. on Friday); and

○ Palos Verdes Peninsula Land Conservancy, 916 Silver Spur Road, Suite 207, Rolling Hills Estates, CA 90274 (9:30 a.m. to 5 p.m., Monday through Friday).

Submitting Comments: You may submit comments by one of the following methods:

• Email: fw8cfwocomments@fws.gov; please include “City of RPV NCCP/HCP” in the subject line.

• U.S. Mail: Karen Goebel, Attn: City of RPV NCCP/HCP (use the Carlsbad Fish and Wildlife Office address under Obtaining Documents).

• Telephone: Karen Goebel, 760-431-9440.

FOR FURTHER INFORMATION CONTACT: Mary Beth Woulfe, 760-431-9440.

SUPPLEMENTARY INFORMATION: We, the U.S. Fish and Wildlife Service (Service), announce the recirculation of the draft Natural Community Conservation Plan/Habitat Conservation Plan (NCCP/HCP) and draft environmental assessment (draft EA), which evaluates the impacts of, and alternatives to, the proposed City of Rancho Palos Verdes (City of RPV) NCCP/HCP. We initially announced the availability of the City of RPV NCCP/HCP for review and comment on October 31, 2018, with a comment period that ended on December 31, 2018 (83 FR 54769). The recirculation is necessary to maximize public review because, while the document provided during the initial 60-day comment period was the document considered by the City of RPV Council at their March 29, 2018, Council Meeting, it did not include changes accepted by City of RPV Council via late correspondence at the Council Meeting, nor did it include technical and clarifying edits made after the Council Meeting. The City of RPV NCCP/HCP was submitted by the City of RPV in support of an application under section 10 of the Endangered Species Act of 1973, as amended (ESA; 16 U.S.C. 1531 et seq.), for a permit authorizing the incidental take of 10 covered species resulting from covered projects/activities and a permit under the State of California's Natural Community Conservation Planning Act of 2002. We request review and comment on the City of RPV NCCP/HCP and the draft EA from local, State, and Federal agencies; Tribes; and the public. The proposed City of RPV NCCP/HCP plan area is located on the Palos Verdes Peninsula, Los Angeles County, California.

Introduction

Under section 10(c) of the ESA and under the National Environmental Policy Act of 1969 (NEPA; 42 U.S.C. 4321 et seq.), this notice advises the public of the receipt and availability for public review of the draft City of RPV NCCP/HCP and draft EA, which evaluates the impacts of, and alternatives to, the City of RPV NCCP/HCP, submitted with an application for a permit to authorize the incidental take of federally listed covered species resulting from covered projects/activities within the plan area. The Service is the Lead Agency pursuant to NEPA. The proposed Federal action is issuance of an incidental take permit (ITP) under section 10(a)(1)(B) of the ESA to the City of Rancho Palos Verdes and their habitat manager, Palos Verdes Peninsula Land Conservancy.

Background

Section 9 of the ESA prohibits “take” of fish and wildlife species listed as endangered under section 4 (16 U.S.C. 1538, 1533, respectively). Section 10(a)(1)(B) of the ESA provides for the issuance of a permit for the taking of listed fish and wildlife species that is incidental to, and not the purpose of, the carrying out of an otherwise lawful activity (“incidental take”). The ESA implementing regulations extend, under certain circumstances, the prohibition of take to threatened species (50 CFR 17.31). Regulations governing permits for endangered and threatened species are at 50 CFR 17.22 and 17.32. For more about the HCP program, go to http://www.fws.gov/endangered/esa-library/pdf/hcp.pdf.

Under section 10(a) of the ESA, the Service may issue permits to authorize incidental take of listed fish and wildlife species. Section 10(a)(2)(B) of the ESA contains criteria for issuing ITPs to non-Federal entities for the take of endangered and threatened species, provided the following criteria are met:

• The taking will be incidental;

• The applicant will, to the maximum extent practicable, minimize and mitigate the impact of such taking;

• The applicant will develop an HCP and ensure that adequate funding for the plan will be provided;

• The taking will not appreciably reduce the likelihood of the survival and recovery of the species in the wild; and

• The applicant will carry out any other measures that the Secretary may require as being necessary or appropriate for the purposes of the HCP.

Implementation of the City of RPV NCCP/HCP is intended to maximize conservation for covered species while providing cost-savings and reducing potential time-delays associated with processing individual ITPs for each covered project/activity within the plan area.

Proposed Action

The proposed action is the issuance of an ITP by the Service to City of Rancho Palos Verdes and their habitat manager, Palos Verdes Peninsula Land Conservancy, for the incidental take of covered species from identified covered projects/activities, including the avoidance, minimization, and mitigation of impacts to covered species within the 8,616.6-acre plan area for 40 years. The proposed City of RPV NCCP/HCP is a conservation plan for the following 10 species:

Federally Listed as Endangered

Palos Verdes blue butterfly (Glaucopsyche lygdamus palosverdesensis)

El Segundo blue butterfly (Euphilotes battoides allyni)

Federally Listed as Threatened

Coastal California gnatcatcher (Polioptila californica californica)

Unlisted

Cactus wren (Campylorhynchus brunneicapillus)

Aphanisma (Aphanisma blitoides)

South coast saltscale (Atriplex pacifica)

Catalina crossosoma (Crossosoma californicum)

Island green dudleya (Dudleya virens ssp. insularis)

Santa Catalina Island desert-thorn (Lycium brevipes var. hassei)

Woolly seablite (Suaeda taxifolia)

There are 17 City of Rancho Palos Verdes projects/activities and 5 private projects/activities proposed to be covered by the ITP. The City of Rancho Palos Verdes projects/activities include landslide abatement, drainage improvement, dewatering wells, road and canyon repairs, fuel modification, and maintenance; private projects/activities include development, remedial grading, and fuel modification. Public use is also identified as a conditionally allowable use. Potential impacts to covered species include disruption of normal behavior by covered projects/activities and injury or death due to construction activities. The City of RPV NCCP/HCP provides a comprehensive approach to the conservation and management of these species and their habitat within the plan area.

The plan area includes the entire boundary of the City of Rancho Palos Verdes. The plan area is constant for all of the alternatives analyzed in the draft EA. The City of RPV NCCP/HCP quantifies the expected loss of habitat and the proposed mitigation, including management and monitoring of the preserve.

Alternatives

We considered five alternatives in the draft EA: (1) No Action Alternative; (2) Alternative A, Peninsula NCCP Working Group Alternative; (3) Alternative B, Landowner Alternative; (4) Alternative C, The City of Rancho Palos Verdes' Alternative; and (5) Alternative D, The Proposed Action.

Under the No Action Alternative, the City of RPV NCCP/HCP would not move forward for approval and an ITP would not be issued. All projects/activities proposed in the City of RPV NCCP/HCP would continue to be reviewed in accordance with existing State land use and environmental regulations. Alternative A was developed by the working group, which consisted of stakeholders within the City of Rancho Palos Verdes, and included the largest preserve area, totaling about 1,559.1 acres. Alternative B was developed by the major landowners in 1999 and proposed the smallest preserve area of all of the alternatives. Alternative C was developed by the City of Rancho Palos Verdes and was a compromise of Alternative A and B. The preserve size under Alternative C is slightly larger than that under the Proposed Action (Alternative D), but the total amount of coastal sage scrub habitat under Alternative C is slightly lower than that in the Proposed Action (Alternative D).

The Proposed Action (Alternative D) is the same as Alternative C, with the following exceptions: (1) A 27.0-acre parcel in the Upper Filiorum property has been removed from the preserve and is now identified as a covered project, including the associated dedication of 30 acres of functional and connected habitat; (2) 40.0 acres of a former archery range property have been removed from the preserve due to landslide and legal constraints; and (3) 61.5 acres of Malaga Canyon have been purchased by the City of Rancho Palos Verdes and have been incorporated into the preserve. The preserve in Alternative D totals 1,402.4 acres.

Request for Comments

Consistent with section 10(c) of the ESA, we invite your submission of written comments, data, or arguments with respect to the City of Rancho Palos Verdes' permit application, the City of RPV NCCP/HCP, and proposed permitting decision.

Public Availability of Comments

Written comments we receive become part of the public record associated with this action. Before including your address, phone number, email address, or other personal identifying information in your comment, you should be aware that your entire comment—including your personal identifying information—may be made publicly available at any time. While you may request in your comment that we withhold your personal identifying information from public review, we cannot guarantee that we will be able to do so. All submissions from organizations or businesses, and from individuals identifying themselves as representatives or officials of organizations or businesses, will be made available for public disclosure in their entirety.

Next Steps

Issuance of an incidental take permit is a Federal proposed action subject to compliance with NEPA. We will evaluate the application, associated documents, and any public comments we receive to determine whether the application meets the requirements of section 10(a) of the ESA. If we determine that those requirements are met, we will issue a permit to the applicant for the incidental take of the covered species. We will make our final permit decision no sooner than 30 days after the public comment period closes.

Authority

We provide this notice under section 10(c) of the ESA (16 U.S.C. 1531 et seq.) and its implementing regulations (50 CFR 17.22 and 17.32) and NEPA (42 U.S.C. 4321 et seq.) and its implementing regulations (40 CFR 1506.6).

Scott Sobiech,
Acting Field Supervisor, Carlsbad Fish and Wildlife Office, Carlsbad, California.

[FR Doc. 2019-06501 Filed 4-3-19; 8:45 am]

BILLING CODE 4333-15-P